DEPARTMENT OF COMMERCE

International Trade Administration

[A-455-805]

Emulsion Styrene-Butadiene Rubber From Poland: Preliminary Results of Antidumping Duty Administrative Review; 2017-2018

AGENCY: Enforcement and Compliance, International Trade Administration, Department of Commerce.

SUMMARY: The Department of Commerce (Commerce) preliminarily determines that sales of emulsion styrene-butadiene rubber (ESB rubber) from Poland were made at less than normal value during the period of review (POR) February 24, 2017 through August 31, 2018. We invite interested parties comment on these preliminary results.

DATES: Applicable July 19, 2019.

FOR FURTHER INFORMATION CONTACT: Stephen Bailey, AD/CVD Operations, Office IV, Enforcement and Compliance, International Trade Administration, U.S. Department of Commerce, 1401 Constitution Avenue NW, Washington, DC 20230; telephone: (202) 482-0193.

SUPPLEMENTARY INFORMATION:

Background

On September 11, 2018, Commerce notified interested parties of the opportunity to request an administrative review of orders, findings, or suspended investigations with anniversaries in September 2018, including the antidumping duty (AD) order on ESB rubber from Poland.¹ Commerce received a request from Lion Elastomers LLC (the petitioner) to conduct an administrative review of Synthos Dwory.²

¹ See Antidumping or Countervailing Duty Order, Finding, or Suspended Investigation; Opportunity to Request Administrative Review, 83 FR 45888 (September 11, 2018).

² See Petitioner's Letter, “Antidumping Duty Order on Emulsion Styrene Butadiene Rubber from Poland (A-455-805): Request for First Administrative Review,” dated September 28, 2018.

On November 15, 2018, Commerce published a notice initiating an AD administrative review of ESB rubber from Poland covering one company, Synthos Dwory, for the POR.³ On November 15, 2018, we issued the AD questionnaire to Synthos Dwory.⁴ On December 17, 2018, Synthos Dwory informed Commerce that it would not participate as a mandatory respondent in this administrative review.⁵ Commerce exercised its discretion to toll all deadlines affected by the partial federal government closure from December 22, 2018 through the resumption of operations on January 29, 2019.⁶ If the new deadline falls on a non-business day, in accordance with Commerce's practice, the deadline will become the next business day. Accordingly, the revised deadline for the preliminary results of this administrative review is July 12, 2019.

³ See Initiation of Antidumping and Countervailing Duty Administrative Reviews, 83 FR 57411, 57413 (November 15, 2018) (Initiation Notice). The Initiation Notice inadvertently lists the company as “Synthos Dwory 7 Spolka z Orgraniczona Odpowiedzialnoscia Spolka Jawna (SP.ZO.O.S.J.)”, but in the company name there should not be an “r” between “O” and “g” in the word “Orgraniczona”. This error was corrected in the initiation notice published on December 11, 2018. See Initiation of Antidumping and Countervailing Duty Administrative Reviews, 83 FR 63615, 63617-18 (December 11, 2018).

⁴ See Commerce's Letter, “Request for Information Antidumping Duty Administrative Review,” dated November 15, 2018.

⁵ See Synthos Dwory's Letter, “Emulsion Styrene-Butadiene Rubber from Poland: Notification of Inability to Participate as Mandatory Respondent,” dated December 17, 2018.

⁶ See Memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

Scope of the Order

The merchandise subject to the order is cold-polymerized emulsion styrene-butadiene rubber (ESB rubber).⁷ The products subject to this order are currently classifiable under subheadings 4002.19.0015 and 4002.19.0019 of the Harmonized Tariff Schedule of the United States (HTSUS). ESB rubber is described by Chemical Abstract Services (CAS) Registry No. 9003-55-8. This CAS number also refers to other types of styrene butadiene rubber. Although the HTSUS subheadings and CAS registry number are provided for convenience and customs purposes, the written description of the scope of this order is dispositive.

⁷ For a complete description of the scope of the order, see Memorandum, “Decision Memorandum for Preliminary Results of the 2017-2018 Antidumping Duty Administrative Review of Emulsion Styrene-Butadiene Rubber from Poland”, dated concurrently with, and hereby adopted by, this notice (Preliminary Decision Memorandum).

Methodology

Commerce has conducted this review in accordance with section 751(a)(1)(B) and (2) of the Tariff Act of 1930, as amended (the Act). In conducting our preliminary results, we have relied on facts available and, because the respondent withdrew from participation in the administrative review and failed to respond to Commerce's questionnaire, we have preliminarily applied an adverse inference to this respondent (i.e., Synthos Dwory), in accordance with sections 776(a) and (b) of the Act and 19 CFR 351.308. For a full discussion of the rationale underlying our preliminary results, see the Preliminary Decision Memorandum.

A list of topics included in the Preliminary Decision Memorandum is included as an Appendix to this notice. The Preliminary Decision Memorandum is a public document and is on file electronically via Enforcement and Compliance's Antidumping and Countervailing Duty Centralized Electronic Service System (ACCESS). ACCESS is available to registered users at http://access.trade.gov and to all parties in the Central Records Unit, Room B8024 of the main Commerce building. In addition, a complete version of the Preliminary Decision Memorandum can be accessed directly on the internet at http://enforcement.trade.gov/frn/. The signed and electronic versions of the Preliminary Decision Memorandum are identical in content.

Preliminary Results of the Review

As a result of this review, we preliminarily find that the following dumping margin exists for Synthos Dwory for the period February 24, 2017 through August 31, 2018:

Exporter/producer | Weighted-average dumping margin (percent)
Synthos Dwory 7 Spolka z Ograniczona Odpowiedzialnoscia Spolka Jawna (SP.ZO.O.S.J.) | 44.54

Public Comment

Normally, Commerce discloses to interested parties the calculations performed in connection with the preliminary results within five days of the date of publication of the notice of preliminary results in the Federal Register, in accordance with 19 CFR 351.224(b). However, because Commerce preliminarily applied AFA to Synthos Dwory, the only individually examined company in this administrative review, in accordance with section 776 of the Act, there are no calculations to disclose.

Interested parties may submit case briefs to Commerce no later than 30 days after the date of publication of this notice.⁸ Rebuttal briefs, limited to issues raised in the case briefs, may be filed no later than five days after the deadline for filing case briefs.⁹ Parties who submit case briefs or rebuttal briefs in this proceeding are encouraged to submit with each argument: (1) A statement of the issue; (2) a brief summary of the argument; and (3) a table of authorities.¹⁰ Case and rebuttal briefs should be filed electronically using ACCESS.¹¹

⁸ See 19 CFR 351.309(c).

⁹ See 19 CFR 351.309(d).

¹⁰ See 19 CFR 351.309(c)(2) and (d)(2); see also 19 CFR 351.303 (for general filing requirements).

¹¹ See 19 CFR 351.303.

Pursuant to 19 CFR 351.310(c), interested parties who wish to request a hearing must submit a written request to the Assistant Secretary for Enforcement and Compliance, filed electronically via ACCESS. The electronically-filed document must be received successfully in its entirety by ACCESS by 5:00 p.m. Eastern Time within 30 days after the date of publication of this notice.¹² Hearing requests should contain: (1) The party's name, address, and telephone number; (2) the number of participants; and (3) a list of issues to be discussed. Issues raised in the hearing will be limited to issues raised in the briefs. If a request for a hearing is made, Commerce intends to notify parties of the time and date and for the hearing to be held at the U.S. Department of Commerce, 1401 Constitution Avenue NW, Washington, DC 20230, at a time and date to be determined.¹³ Parties should confirm by telephone the date, time, and location of the hearing two days before the scheduled date.

¹² See 19 CFR 351.310(c).

¹³ See 19 CFR 351.310(c).

All submissions, with limited exceptions, must be filed electronically using ACCESS.¹⁴ An electronically filed document must be received successfully in its entirety by ACCESS by 5:00 p.m. Eastern Time, on the due dates established above (or, where applicable, to be established by Commerce at a later date). Documents excepted from the electronic submission requirements must be filed manually, (i.e., in paper form) with the APO/Dockets Unit in Room 18022 and stamped with the date and time of receipt by on the due date.¹⁵

¹⁴ See 19 CFR 351.303.

¹⁵ Id.

Unless extended, Commerce intends to issue the final results of this administrative review, including the results of its analysis raised in any written briefs, not later than 120 days after the publication date of this notice.¹⁶

¹⁶ See section 751(a)(3)(A) of the Act; and 19 CFR 351.213(h).

Assessment Rates

Upon issuance of the final results, Commerce shall determine, and U.S. Customs and Border Protection (CBP) shall assess, antidumping duties on all appropriate entries. Commerce intends to issue assessment instructions to CBP 15 days after the publication of the final results of this review. Where assessments are based upon facts available, including adverse facts available, we intend to instruct CBP to assess duties at the adverse facts available margin rate. If these preliminary results are unchanged in the final results, then Commerce intends to instruct CBP to assess antidumping duties on POR entries of the subject merchandise produced or exported by Synthos Dwory at the rate of 44.54 percent of the entered value. The final results of this review shall be the basis for the assessment of antidumping duties on entries of merchandise covered by the final results of this review and for future deposits of estimated duties, where applicable.

Cash Deposit Requirements

The following cash deposit requirements will be effective for all shipments of ESB rubber from Poland entered, or withdrawn from warehouse, for consumption on or after the publication date of the final results of this administrative review, as provided by section 751(a)(2) of the Act: (1) The cash deposit rate for Synthos Dwory will be the rate established in the final results of this administrative review; (2) for previously reviewed or investigated companies not participating in this review but covered in a prior segment of the proceeding, the cash deposit rate will continue to be the company-specific rate published for the most recently completed segment of this proceeding in which the company participated; (3) if the exporter is not a firm covered in this review or the original less-than-fair-value investigation, but the manufacturer is, the cash deposit rate will be the rate established for the most recently completed segment of this proceeding for the manufacturer of the merchandise; and (4) the cash deposit rate for all other producers or exporters will continue to be 25.43 percent, the all-others rate established in the less-than-fair value investigation.¹⁷ These cash deposit requirements, when imposed, shall remain in effect until further notice.

¹⁷ See Emulsion Styrene-Butadiene Rubber from Poland: Final Affirmative Determination of Sales at Less Than Fair Value, 82 FR 33061 (July 19, 2017); see also Emulsion Styrene-Butadiene Rubber from Brazil, the Republic of Korea, Mexico, and Poland: Antidumping Duty Orders, 82 FR 42790 (September 12, 2017).

Notification to Importers

This notice also serves as a preliminary reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

Notification to Interested Parties

We are issuing and publishing these results in accordance with sections 751(a)(1) and 777(i)(1) of the Act and section 19 CFR 351.221(b)(4).

Dated: July 12, 2019.
Jeffrey I. Kessler,
Assistant Secretary for Enforcement and Compliance.

Appendix

List of Topics Discussed in the Preliminary Decision Memorandum

I. Summary

II. Background

III. Scope of the Order

IV. Application of Facts Available and Adverse Inferences

V. Recommendation

[FR Doc. 2019-15408 Filed 7-18-19; 8:45 am]

BILLING CODE 3510-DS-P